DEPARTMENT OF HEALTH AND HUMAN SERVICES

Centers for Disease Control and Prevention

[Program Announcement 04174]

Environmental Health Epidemiology Resources Development for Mexico and Latin American Countries; Notice of Intent To Fund Single Eligibility Award

A. Purpose

The Centers for Disease Control and Prevention (CDC) announces the intent to fund fiscal year (FY) 2004 funds for a cooperative agreement program to continue and strengthen an established environmental health epidemiology, environmental health professional training, and demonstration and training service delivery program based in a university setting in Mexico. The Catalog of Federal Domestic Assistance number for this program is 93.283.

B. Eligible Applicant

Assistance will be provided only to the Instituto Nacional de Salud Publica (INSP).

The INSP, as the national institute of public health of the Government of Mexico, is the most appropriate and qualified agency to provide the services specified under this cooperative agreement because:

The INSP is a leading environmental health epidemiology teaching institution, both at the undergraduate and graduate levels, in Mexico and the Latin American and Caribbean country region, and is the only public health teaching institution in the region whose mission scope covers the entire region.

The INSP has formal collaborative arrangements with other teaching institutions in Mexico, including those located near the Mexico-U.S. border, and with those in other countries in the region which provide the entre for establishing and maintaining the environmental health epidemiology training and demonstration program supported by this cooperative agreement.

The INSP has a highly qualified doctoral- and master's-level teaching staff whose responsibilities include the conduct of programs related to the achievement of the environmental health epidemiology and fellow-training activities, which are the intended objectives of this cooperative agreement.

C. Funding

Approximately $315,000 is available in FY 2004 to fund this award. It is expected that the award will begin on or before September 1, 2004, and will be made for a 12-month budget period within a project period of up to three years. Funding estimates may change.

D. Where To Obtain Additional Information

For general comments or questions about this announcement, contact: Technical Information Management, CDC Procurement and Grants Office, 2920 Brandywine Road, Atlanta, GA 30341-4146, Telephone: 770-488-2700.

For scientific/research issues, contact: Dr. Robert Spengler, Program Official, 1600 Clifton Road, NE., Mail Stop E-28, Atlanta, GA 30333, Telephone: 404-498-0003, E-mail: RSpengler@cdc.gov.

For questions about peer review, contact: Dr. Robert Spengler, Senior Advisor for Peer Review and Research, Office of Science, 1600 Clifton Road, NE, Mail Stop E-28, Atlanta, GA 30333, Telephone: 404-498-0003, E-mail: RSpengler@cdc.gov.

For program technical assistance, contact: Gary P. Noonan, Associate Director, Division of Environmental Hazards and Health Effects, National Center for Environmental Health, 4770 Buford Hwy., NE., Mail Stop F-52, Atlanta, GA 30341-3717, Telephone: 770-488-3449, E-mail: GNoonan@cdc.gov.

For financial, grants management, or budget assistance, contact: Steward Nichols, Contract Specialist, CDC Procurement and Grants Office, 2920 Brandywine Road, Atlanta, GA 30341, Telephone: 770-488-2788, E-mail: shn8@cdc.gov.

Dated: May 5, 2004.
William P. Nichols,
Acting Director, Procurement and Grants Office, Centers for Disease Control and Prevention.

[FR Doc. 04-10618 Filed 5-10-04; 8:45 am]

BILLING CODE 4163-18-P